DEPARTMENT OF COMMERCE

National Oceanic and Atmospheric Administration

[I.D. 072701C]

Proposed Information Collection; Comment Request; Application to Shuck Clams/Ocean Quahogs at Sea

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506 (c)(2)(A)).

DATES: Written comments must be submitted on or before October 1, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Myles Raizin, National Marine Fisheries Service, 1 Blackburn Drive, Gloucester, MA 01930 (phone 978-281-9104).

SUPPLEMENTARY INFORMATION:

I. Abstract

The surf clam/ocean quahog fishery is managed under an individual transferable quota system that sets both individual and overall harvest goals. In order to aid in the enforcement of these quotas, fishermen are generally required to land unshucked surf clams and ocean quahogs in 32-bushel cages. Because of potential pollution problems with this practice, fishermen can shuck at sea if they obtain an authorization to do so from NOAA. NOAA will only authorize the action if a NOAA-approved observer is carried on the vessel to certify the amount of unshucked shellfish harvested. This is required because of the difficulty in converted shucked weights into bushels.

II. Method of Collection

A paper form is submitted.

III. Data

OMB Number: 0648-0240.

Form Number: None.

Type of Review: Regular submission.

Affected Public: Business or other for-profit organizations, individuals or households.

Estimated Number of Respondents: 2.

Estimated Time Per Response: 5 minutes.

Estimated Total Annual Burden Hours: 2.

Estimated Total Annual Cost to Public: $12.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 27, 2001.
Madeleine Clayton,
Departmental Paperwork Clearance Officer, Office of the Chief Information Officer.

[FR Doc. 01-19355 Filed 8-1-01; 8:45 am]

BILLING CODE 3510-22-S